DEPARTMENT OF COMMERCE

National Oceanic and Atmospheric Administration

RIN 0648-AW92

Pacific Halibut Fisheries; Limited Access for Guided Sport Charter Vessels in Alaska

AGENCY: National Marine Fisheries Service (NMFS), National Oceanic and Atmospheric Administration (NOAA), Commerce.

ACTION: Notice of application period.

SUMMARY: NMFS will accept applications from persons applying to receive a charter halibut permit under the Limited Access System for Guided Sport Charter Vessels in Alaska. Potential eligible applicants are notified of the one-time opportunity to apply for a charter halibut permit for the 60-day period from February 4, 2010, through April 5, 2010. Any applications received by NMFS after the ending date will be considered untimely and will be denied.

DATES: An application for a charter halibut permit will be accepted by NMFS from 8 a.m. Alaska local time (A.l.t.) on February 4, 2010, through 5 p.m. A.l.t. on April 5, 2010.

ADDRESSES: Application forms are available on the internet through the Alaska Region website at http://alaskafisheries.noaa.gov/ram/default.htm or by contacting NMFS at 1-800-304-4846 (option 2). An application form may be submitted by mail to NMFS, Alaska Region, Restricted Access Management, P.O. Box 21668, Juneau, AK 99802, by facsimile (907-586-7354), or by hand delivery to NMFS, 709 West 9th Street, Room 713, Juneau, AK 99081.

FOR FURTHER INFORMATION CONTACT: Rachel Baker, 907-586-7228.

SUPPLEMENTARY INFORMATION: NMFS published a final rule implementing a limited access system for charter vessels in the guided sport fishery for Pacific halibut in waters of International Pacific Halibut Commission Regulatory Areas 2C (Southeast Alaska) and 3A (Central Gulf of Alaska) in the Federal Register on January 5, 2010 (75 FR 554). Under this rule, NMFS will issue a charter halibut permit to the owner of a licensed charter fishing business based on the business's past participation in the charter halibut fishery. Section 300.67(h)(1) of the final rule requires NMFS to specify an application period for charter halibut permits of no less than 60 days in the Federal Register, and to deny any applications received after the last day of the application period.

This notice specifies a 60-day application period of February 4, 2010, through April 5, 2010. An application period was referenced in the proposed rule published on April 21, 2009 (74 FR 18178) and in the final rule published on January 5, 2010 (75 FR 554). This 60-day application period is consistent with the intent of the final rule to give adequate time for participants in the charter halibut fisheries in Areas 2C and 3A to review the final rule and prepare materials necessary for the application procedure specified at 50 CFR 300.67(h)(3). Beginning on February 1, 2011, all vessels with charter anglers on board that are catching and retaining Pacific halibut in Areas 2C and 3A will be required to have on board the vessel a valid original charter halibut permit with an angler endorsement equal to or greater than the number of charter anglers that are fishing for halibut.

All persons are hereby notified that they must obtain an application on the Internet or request a charter halibut application from NMFS (see ADDRESSES). The application period for charter halibut permits begins at 8 a.m. A.l.t. on February 4, 2010, and ends at 5 p.m. A.l.t. on April 5, 2010. Applicants with incomplete applications will be notified in writing of the specific information necessary to complete the application. Charter halibut permit applications submitted to NMFS (see ADDRESSES) after 5 p.m. A.l.t. on April 5, 2010, will be considered untimely and will be denied.

Authority: 16 U.S.C. 773 et seq.

Dated: January 6, 2010.
Emily H. Menashes,
Acting Director, Office of Sustainable Fisheries, National Marine Fisheries Service.

[FR Doc. 2010-389 Filed 1-11-10; 8:45 am]

BILLING CODE 3510-22-S